DEPARTMENT OF HOMELAND SECURITY

Federal Emergency Management Agency

[Docket ID FEMA-2008-0010]

Board of Visitors for the National Fire Academy

AGENCY: Federal Emergency Management Agency, Department of Homeland Security.

ACTION: Notice of open Federal Advisory Committee meeting.

SUMMARY: The Board of Visitors for the National Fire Academy (Board) will meet virtually on Thursday, March 20, 2025. The meeting will be open to the public.

DATES: The meeting will take place on Thursday, March 20, 2025, 1 p.m. to 3 p.m. Eastern Standard Time (EST). Please note that the meeting may close early if the Board has completed its business.

ADDRESSES: Members of the public who wish to participate in the virtual conference should contact Deborah Gartrell-Kemp as listed in the FOR FURTHER INFORMATION CONTACT section by 5 p.m. EST on March 10, 2025, to obtain the call-in number and access code for the March 20th virtual meeting. The Board is committed to ensuring all participants have equal access regardless of disability status. If you require a reasonable accommodation due to a disability to fully participate, please contact Deborah Gartrell-Kemp as listed in the FOR FURTHER INFORMATION CONTACT section as soon as possible.

To facilitate public participation, we are inviting public comment on the issues to be considered by the Board as listed in the SUPPLEMENTARY INFORMATION section. Participants seeking to have their comments considered during the meeting should submit them in advance or during the public comment segment. Comments submitted up to 30 days after the meeting will be included in the public record and may be considered at the next meeting. Comments submitted in advance must be identified by Docket ID FEMA-2008-0010 and may be submitted by one of the following methods:

• Federal eRulemaking Portal: https://www.regulations.gov. Follow the instructions for submitting comments.

• Electronic Delivery: Email Deborah Gartrell-Kemp at Deborah.Gartrell-Kemp@fema.dhs.gov no later than March 10, 2025, for consideration at the March 20th, meeting.

Instructions: All submissions received must include the words “Federal Emergency Management Agency” and the Docket ID for this action. Comments received will be posted without alteration at https://www.regulations.gov, including any personal information provided. You may wish to view the Privacy and Security Notice via a link on the homepage of https://www.regulations.gov.

Docket: For access to the docket and to read background documents or comments received by the National Fire Academy Board of Visitors, go to https://www.regulations.gov, insert “FEMA-2008-0010” in the search box and then click “Search.”

FOR FURTHER INFORMATION CONTACT:

Designated Federal Officer: Eriks Gabliks, telephone (301) 447-1308, email Eriks.Gabliks@fema.dhs.gov.

Logistical Information: Deborah Gartrell-Kemp, telephone (301) 447-7230, email Deborah.Gartrell-Kemp@fema.dhs.gov.

SUPPLEMENTARY INFORMATION: The Board will meet virtually on Thursday, March 20, 2025. The meeting will be open to the public. Notice of this meeting is given under the Federal Advisory Committee Act, 5 U.S.C. chapter 10.

Purpose of the Board

The purpose of the Board is to review annually the programs of the National Fire Academy (Academy) and advise the Administrator of the Federal Emergency Management Agency (FEMA), through the United States Fire Administrator, on the operation of the Academy and any improvements therein that the Board deems appropriate. In carrying out its responsibilities, the Board examines Academy programs to determine whether these programs further the basic missions that are approved by the Administrator of FEMA, examines the physical plant of the Academy to determine the adequacy of the Academy's facilities, and examines the funding levels for Academy programs. The Board submits a written annual report through the United States Fire Administrator to the Administrator of FEMA. The report provides detailed comments and recommendations regarding the operation of the Academy.

Agenda

On Thursday, March 20, 2025, there will be four sessions, with deliberations and voting at the end of each session as necessary:

1. The Board will discuss United States Fire Administration Data, Emergency Medical Services (EMS), Research, Prevention and Response.

2. The Board will discuss deferred maintenance and capital improvements on the National Emergency Training Center campus and Fiscal Year 2025 and beyond Budget Request/Budget Planning.

3. The Board will deliberate and vote on recommendations on Academy program activities to include developments, deliveries, staffing, admissions, and strategic plan.

4. There will also be an update on the Board of Visitors Subcommittee Groups for the Professional Development Initiative Update and the National Fire Incident Report System.

There will be a 10-minute public comment period after each agenda item and each speaker will be given no more than 2 minutes to speak. Please note that the public comment period may end before the time indicated following the last call for comments. Contact Deborah Gartrell-Kemp to register as a speaker. Meeting materials will be posted by March 10, 2025, at https://www.usfa.fema.gov/nfa/about/board-of-visitors.html.

Eriks J. Gabliks,
Superintendent, National Fire Academy, United States Fire Administration, Federal Emergency Management Agency.

[FR Doc. 2025-01237 Filed 1-16-25; 8:45 am]

BILLING CODE 9111-74-P